DEPARTMENT OF COMMERCE

[Docket No. 0004121104-0104-01]

RIN 0651-XX24

Privacy Act of 1974; System of Records

AGENCY: Department of Commerce.

ACTION: Notice of New Privacy Act System of Records: Commerce/Patent and Trademark System 15: Maintenance of Invention Promoter Complaints.

SUMMARY: The Department of Commerce is creating a new system of records listed under Commerce-Patent and Trademark Systems: Maintenance of Invention Promoter Complaints. We invite public comment on the system announced in this publication.

DATES: Effective Date: The system will become effective without further notice on May 25, 2000 unless comments dictate otherwise.

Comment Date: To be considered, written comments must be submitted on or before May 25, 2000.

ADDRESSES: Comments may be sent via United States Mail delivery to Marshall Honeyman or Raymond Chen, Office of the Solicitor, United States Patent and Trademark Office, Box 8, Washington, DC 20231; via facsimile at 703-305-9373. All comments received will be available for public inspection at the Public Search Facilities, Crystal Plaza 3, 2021 South Clark Place, Arlington, VA 22202.

For further information contact: Marshall Honeyman, Office of the Solicitor, Box 8, Washington, DC 20231, or by phone at 703-305-9035.

SUPPLEMENTARY INFORMATION: Pursuant to the implementation of the Inventors' Rights Act of 1999, Pub. L. 106-113, section 4001 (to be codified at 35 U.S.C. 297), the United States Patent and Trademark Office (Office) is required to make complaints received by the Office involving invention promoters publicly available, together with any response of the invention promoters. A new system of records is being created by the Office to maintain these complaints and responses.

The Department of Commerce finds no probable or potential effect of the proposal on the privacy of individuals. To minimize the risk of unauthorized access to the system of records, the Office will locate all unpublished paper records in lockable file cabinets or in metal file cabinets in secured rooms or secured premises with access limited to those whose official duties require access. Electronic data will be stored in secured premises with access limited to those whose official duties require access.

Classification

Administrative Procedure Act

This notice is not subject to the notice and comment requirements of the Administrative Procedure Act. 5 U.S.C. 553(a)(2).

Executive Order 12866

This notice is exempt from review under Executive Order 12866.

Brenda Dolan,
Departmental Freedom of Information Act and Privacy Act Officer.

Commerce/PAT-TM-15

System name:

System for Maintenance of Invention Promoter Complaints—COMMERCE/PAT-TM-# TBD.

System location:

The Office of Independent Inventor Programs, U.S. Patent and Trademark Office, 2121 South Clark Street, Arlington, Virginia 22202.

Categories of individuals covered by the system:

Complaining inventors, invention promoters, and interested members of the public.

Categories of records in the system:

Complainant names, addresses, and telephone numbers; invention promoter names, addresses, and telephone numbers; complaints regarding invention promoters, responses to complaints by invention promoters, and correspondence relating to these complaints and responses.

Authority for maintenance of the system:

5 U.S.C. 301; 35 U.S.C. 1, 6, and 297.

Routine uses of records maintained in the system, including categories of users and the purposes of such uses:

See Prefatory Statement of General Routine uses Nos.1-5, 8-10, 12 and 13. Customer complaints regarding invention promoters together with responses by the invention promoters will be made publicly available.

Policies and practices for storing, retrieving, accessing, retaining, and disposing of records in the system:

Storage: Paper records in file folder or distributed to individuals and management; microfilm and electronic storage media.

Retrievability: Complaints and responses will be assigned numbers. Documents may be retrieved by number, name of complainant, or name of invention promoter.

Safeguards: Buildings employ security systems. Records are maintained in areas accessible only to authorized personnel who are properly screened, cleared, and trained. Where information is retrievable by terminal, all safeguards appropriate to secure the ADP telecommunications system (hardware and software) are utilized.

Retention and disposal:

Records retention and disposal is in accordance with the Office of Independent Inventor Program Records Control Schedule.

System manager(s) and address:

Director, Office of Independent Inventor Programs, U.S. Patent and Trademark Office, 2011 Crystal Drive, Arlington, VA 22202.

Notification procedure:

Information may be obtained from: Privacy Officer, Office of the Solicitor, U.S. Patent and Trademark Office, Box 8, Washington, DC 20231. Requester should provide name, address, date of application, and record sought, pursuant to the inquiry provisions of the Department's rules which appear in 15 CFR part 4b.

Record access procedures:

Requests from individuals should be addressed to: Same address as stated in the notification section above.

Contesting record procedures:

The Department's rules for access, for contesting contents, and for appealing initial determinations by the individual concerned appear in 15 CFR part 4b.

Record source categories:

Complaining individuals and responding invention promoters.

[FR Doc. 00-10269 Filed 4-24-00; 8:45 am]

BILLING CODE 3510-16-P